DEPARTMENT OF DEFENSE

Office of the Secretary

Defense Partnership Council Meeting

AGENCY: Department of Defense.

ACTION: Notice of meeting cancellation.

SUMMARY: On June 21, 2000, 65 FR 38518, the Department of Defense published a notice to announce a meeting of the Defense Partnership Council to be held July 26, 2000.

This notice is to announce that the meeting is cancelled due to conflicts in members' schedules.

FOR FURTHER INFORMATION CONTACT: Mr. Ben James, Chief, Labor Relations Branch, Field Advisory Services Division, Defense Civilian Personnel Management Service, 1400 Key Boulevard, Suite B-200, Arlington, VA 22209-5144, (703) 696-1450.

Dated: July 14, 2000.
Patricia L. Toppings,
Alternate OSD Federal Register Lisison Officer, Department of Defense.

[FR Doc. 00-18450 Filed 7-20-00; 8:45 am]

BILLING CODE 5001-10-M